NUCLEAR REGULATORY COMMISSION

[Docket Nos. 50-317 and 50-318]

Calvert Cliffs Nuclear Power Plant, Inc.; Notice of Withdrawal of Application for Amendment to Facility Operating License

The U.S. Nuclear Regulatory Commission (the Commission) has granted the request of Calvert Cliffs Nuclear Power Plant, Inc. (the licensee) to withdraw its application dated January 31, 2005, for proposed amendments to Renewed Facility Operating License Nos. DPR-53 and DPR-69 for the Calvert Cliffs Nuclear Power Plant, Unit Nos. 1 and 2, respectively, located in Calvert County, Maryland.

The proposed amendment would have revised the Renewed Facility Operating Licenses and Technical Specifications to increase the licensed core power by 1.37 percent to 2737 MegaWatt-thermal through implementation of certain feedwater flow measurement instrumentation.

The Commission had previously issued a Notice of Consideration of Issuance of Amendment published in the Federal Register on March 16, 2005 (70 FR 12906). However, by letter dated September 27, 2007, the licensee withdrew the proposed change.

For further details with respect to this action, see the application for amendment dated January 31, 2005, and the licensee's letter dated September 27, 2007, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm.html. Persons who do not have access to ADAMS or who encounter problems in accessing the documents located in ADAMS should contact the NRC PDR Reference staff by telephone at 1-800-397-4209, or 301-415-4737 or by e-mail to pdr@nrc.gov.

Dated at Rockville, Maryland, this 9th day of October 2007.
For the Nuclear Regulatory Commission.
Douglas V. Pickett,
Senior Project Manager, Plant Licensing Branch I-1, Division of Operating Reactor Licensing, Office of Nuclear Reactor Regulation.

[FR Doc. E7-20417 Filed 10-15-07; 8:45 am]

BILLING CODE 7590-01-P